DEPARTMENT OF TRANSPORTATION

Federal Aviation Administration

14 CFR Part 39

[Docket No. 2000-NM-325-AD; Amendment 39-11948; AD 2000-22-02 R1]

RIN 2120-AA64

Airworthiness Directives; Boeing Model 737 Series Airplanes

AGENCY: Federal Aviation Administration, DOT.

ACTION: Final rule; correction.

SUMMARY: This document corrects information in an existing airworthiness directive (AD) that applies to all Boeing Model 737 series airplanes. That AD supersedes AD 99-05-15, amendment 39-11063, to require revising the FAA-approved Airplane Flight Manual (AFM) procedure in the existing AD to simplify the instructions for correcting a jammed or restricted flight control condition. This document corrects the format for certain AFM material described in that AD. This correction is necessary to ensure that the flightcrew is aware of certain critical recall items in the AFM procedure that are necessary to address a condition involving a jammed or restricted rudder.

DATES: Effective November 13, 2000.

FOR FURTHER INFORMATION CONTACT: Steve O'Neal, Aerospace Engineer, Flight Test Branch, ANM-160S, Seattle Aircraft Certification Office, FAA, 1601 Lind Avenue, SW., Renton, Washington 98055-4056; telephone (425) 227-2699; fax (425) 227-1181.

SUPPLEMENTARY INFORMATION: On October 20, 2000, the Federal Aviation Administration (FAA) issued AD 2000-22-02, amendment 39-11948 (65 FR 64134, October 26, 2000), which applies to all Boeing Model 737 series airplanes. That AD supersedes AD 96-26-07, amendment 39-9871 (62 FR 15, January 2, 1997), to require revising the FAA-approved Airplane Flight Manual (AFM) procedure in the existing AD to simplify the instructions for correcting a jammed or restricted flight control condition. That AD was prompted by an FAA determination that the procedure currently inserted in the AFM by the existing AD is not defined adequately. The actions required by that AD are intended to ensure that the flight crew is advised of the procedures necessary to address a condition involving a jammed or restricted rudder.

Need for the Correction

Information obtained recently by the FAA indicates that certain AFM material described in AD 2000-22-02 was incorrectly formatted.

The FAA has determined that a correction to the published format of the AFM procedure specified in paragraph (b) of that AD is necessary. The procedure contains critical recall (memory) items. The first two procedural steps, which call for disengagement of the autopilot and autothrottle, and their associated text, are recall items. In standard operational materials, recall items are indicated to the flight crew by specifying the information in a text box. Any duplication of this procedure in operational documentation must reflect the recall nature of these items. Therefore, paragraph (b) of this AD has been revised to reference Figure 1 of this AD, which contains the correct format in order to emphasize these recall items. The correction will ensure that the flightcrew is aware of the critical recall items in the AFM procedure described in that AD that are necessary to address a condition involving a jammed or restricted rudder.

Correction of Publication

This document corrects the error and correctly adds the AD as an amendment to § 39.13 of the Federal Aviation Regulations (14 CFR 39.13).

The AD is reprinted in its entirety for the convenience of affected operators. The effective date of the AD remains November 13, 2000.

Since this action only corrects a formatting error, it has no adverse economic impact and imposes no additional burden on any person. Therefore, the FAA has determined that notice and public procedures are unnecessary.

List of Subjects in 14 CFR Part 39

Air transportation, Aircraft, Aviation safety, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2000-22-02 R1 Boeing: Amendment 39-11948. Docket 2000-NM-325-AD.

Applicability: All Model 737 series airplanes, certificated in any category.

Compliance: Required as indicated, unless accomplished previously.

To ensure that the flight crew is advised of the procedures necessary to address a condition involving a jammed or restricted rudder, accomplish the following:

Restatement of Certain Requirements of AD 96-26-07

(a) Within 30 days after January 17, 1997 (the effective date of AD 96-26-07, amendment 39-9871): Revise the Emergency Procedures Section of the FAA-approved Airplane Flight Manual (AFM) to include the following recall item, which will enable the flight crew to take appropriate action to maintain control of the airplane during an uncommanded yaw or roll condition. This may be accomplished by inserting a copy of this AD in the AFM.

“UNCOMMANDED YAW OR ROLL

RECALL

Maintain control of the airplane with all available flight controls. If roll is uncontrollable, immediately reduce angle of attack and increase airspeed. Do not attempt to maintain altitude until control is recovered. If engaged, disconnect autopilot and autothrottle.”

New Requirements of This AD

(b) Within 30 days after the effective date of this AD: Revise the Normal Procedures Section of the FAA-approved AFM for Model 737-100 and -200 series airplanes or the Non-Normal Procedures Section of the FAA-approved AFM for Model 737-300, -400, -500, -600, -700, and -800 series airplanes, as applicable, to include the procedure specified in Figure 1 of this AD. This may be accomplished by inserting a copy of this AD in the AFM and removing the existing copy (inserted as required by AD 96-26-07), entitled “Jammed Flight Controls.”

(c) It is acceptable to modify the format of the above procedure to reflect the format used by individual carriers. However, the procedural sequence, memory items, and/or associated text may not be modified, except by submitting a request for an alternative method of compliance (AMOC) as specified in paragraph (d) of this AD.

Alternative Methods of Compliance

(d) An AMOC or adjustment of the compliance time that provides an acceptable level of safety may be used if approved by the Manager, Seattle Aircraft Certification Office (ACO), FAA. Operators shall submit their requests through an appropriate FAA Principal Operations Inspector, who may add comments and then send it to the Manager, Seattle ACO.

Note 1: Information concerning the existence of approved alternative methods of compliance with this AD, if any, may be obtained from the Seattle ACO.

Special Flight Permits

(e) Special flight permits may be issued in accordance with §§ 21.197 and 21.199 of the Federal Aviation Regulations (14 CFR 21.197 and 21.199) to operate the airplane to a location where the requirements of this AD can be accomplished.

Effective Date

(f) The effective date of this amendment remains November 13, 2000.

Issued in Renton, Washington, on November 9, 2000.
Donald L. Riggin,
Acting Manager, Transport Airplane Directorate, Aircraft Certification Service.

[FR Doc. 00-29403 Filed 11-15-00; 8:45 am]

BILLING CODE 4910-13-U